DEPARTMENT OF ENERGY

Federal Energy Regulatory Commission

[Project No. 4114-067]

Lower Saranac Hydro Partners, LLC

Notice of Application Tendered for Filing With the Commission and Soliciting Additional Study Requests and Establishing Procedural Schedule for Relicensing and a Deadline for Submission of Final Amendments

Take notice that the following hydroelectric application has been filed with the Commission and is available for public inspection.

a. Type of Application: New License.

b. Project No.: 4114.

c. Date Filed: May 30, 2025.

d. Applicant: Lower Saranac Hydro Partners, LLC (Hydro Partners).

e. Name of Project: Lower Saranac Hydroelectric Project.

f. Location: On the Saranac River in Clinton County, New York.

g. Filed Pursuant to: Federal Power Act, 16 U.S.C. 791(a)-825(r).

h. Applicant Contact: Kevin Webb, Hydro Licensing Manager, 670 N Commercial Street, Suite 204, Manchester, New Hampshire 03101; telephone at (978) 935-6039; email at kwebb@patriothydro.com.

i. FERC Contact: Erin Mocko, Project Coordinator, Great Lakes Branch, Division of Hydropower Licensing; telephone at (202) 502-8107; email at erin.mocko@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: on or before 5:00 p.m. Eastern Time on July 29, 2025.

The Commission strongly encourages electronic filing. Please file additional study requests and requests for cooperating agency status using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, MD 20852. All filings must clearly identify the project name and docket number on the first page: Lower Saranac Hydroelectric Project (P-4114-067).

m. The application is not ready for environmental analysis at this time.

Project Description: The Lower Saranac Project includes a dam that is comprised of: (1) a northern section (North Dam or Treadwell Mills Dam) that includes: (a) an 83-foot-long non-overflow section with seven 7.5-foot-long gates; (b) a 95-foot-long spillway that has a crest elevation of 281.6 feet above mean sea level (msl); and (c) a 50-foot-long non-overflow section with two 5-foot-long low-level outlet gates; (2) a 300-foot-long earthen embankment with a retaining wall; and (3) a southern section (South Dam) that includes: (a) a section that includes a weir for an upstream fish passage facility and a turbine intake gate with trashracks with 1-inch clear bar spacing; (b) a 77-foot-long spillway that has a crest elevation of 281.5 feet msl; (c) a section with a 20-foot-long crest gate; (d) a section that includes a weir for a downstream fish passage facility; and (e) a canal intake structure with trashracks with 1-inch clear bar spacing.

The dam creates an impoundment that has a surface area of approximately 85 acres at the South Dam's spillway crest elevation of 281.5 feet msl. The impoundment includes a forebay upstream of the South Dam with a 60-foot-long headgate structure.

From the impoundment, water flows through the headgate structure to the forebay. From the forebay, water flows through the canal intake structure to a 3,750-foot-long power canal that provides water to an intake structure that includes two gates with trashracks. From the intake structure, water is conveyed to two 240-foot-long penstocks that provide water to a 57-foot-long, 56-foot-wide powerhouse that contains two 4.5-megawatt (MW) horizontal Kaplan turbine-generator units (Units 1 and 2), for a total installed capacity of 9 MW. Water is discharged from the powerhouse to a tailrace. The project creates an approximately 4,700-foot-long bypassed reach.

From the forebay, water is also conveyed through the turbine intake gate in the South Dam to a conduit that provides water to a 0.3-MW vertical Kaplan turbine-generator unit (Unit 3) that is located on a concrete deck. Unit 3 discharges to the bypassed reach downstream of the South Dam spillway.

Electricity generated at the powerhouse is transmitted to the electric grid via a 1,400-foot-long, 46-kilovolt transmission line.

The upstream fish passage facility consists of a 6.5-foot-wide, 273-foot-long Denil fish ladder with 3 tiered sections. The downstream fish passage facility consists of a 4-foot-wide, 6-foot-long fish collection box, and a 2-foot-dimeter, 200-foot-long pipe that discharges to the bypassed reach downstream of the South Dam spillway.

Project recreation facilities include: (1) a 5-car parking area on the earth embankment; (2) an upper scenic viewing area approximately 1,350 feet downstream of the dam on the southern bank of bypassed reach; (3) an upper picnic area approximately 1,500 feet downstream of the dam on the southern bank of bypass reach; (4) a shoreline fishing access area approximately 500 feet upstream of the powerhouse on the southern bank of bypassed reach; (5) a lower picnic and scenic viewing area approximately 520 feet upstream of the powerhouse on the southern bank of bypassed reach, (6) a 10-car parking area approximately 170 feet upstream of the intake structure on the southern bank of the power canal; (7) an approximately 1-mile-long main recreation trail that extends the length of the project from the dam to the powerhouse and provides access to the shoreline fishing access area and the lower picnic and scenic viewing area; and (8) an approximately 1,320-foot-long secondary trail that branches from the primary trail and provides access to the upper picnic and scenic viewing areas.

The minimum and maximum hydraulic capacities of the powerhouse are 225 and 1,900 cubic feet per second (cfs), respectively. The minimum and maximum hydraulic capacities of Unit 3 are 60 and 140 cfs, respectively. The average annual energy production of the project from 2010 through 2019, was 27,739 megawatt-hours.

The current license requires the project to operate in a run-of-river mode such that project outflow approximates inflow to the impoundment. The current license requires Hydro Partners to maintain the impoundment at or near the South Dam spillway crest elevation of 281.5 feet msl. Hydro Partners maintains the impoundment at or above the South Dam spillway crest elevation.

The current license also requires Hydro Partners to release the following minimum flows or inflow, whichever is less, to the bypassed reach: (1) 175 cfs from September 16 through November 15; (2) 125 cfs from November 16 through April 15; (3) 150 cfs from April 16 through June 15; and (4) 100 cfs from June 16 through September 15. The current license requires Hydro Partners to operate the downstream fish passage facility for migrating salmonids by releasing 48 cfs from April 16 through June 15 and from September 16 through November 15, and releasing 36 cfs at all other times. In addition, the current license requires Hydro Partners to implement a Recreation Plan and Streamflow Gaging Plan to monitor the required minimum flows released to the bypassed reach.

Hydro Partners proposes to remove approximately 39.2 acres downstream of the project tailrace from the current project boundary. Hydro Partners proposes to continue operating the project as currently licensed, including run-of-river operation, impoundment levels, minimum bypassed reach flows, fishway flows, and maintaining existing recreation facilities. Hydro Partners proposes to update the Recreation Plan.

n. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-4114). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

o. The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595 or OPP@ferc.gov.

p. Procedural Schedule: The application will be processed according to the following preliminary schedule. Revisions to the schedule will be made as appropriate.

Issue Deficiency Letter and Request Additional Information—July 2025

Request Additional Information (if necessary)—November 2025

Issue Notice of Application Accepted for Filing—November 2025

Issue Scoping Document 1 for comments—November 2025

Issue Scoping Document 2 (if necessary)—December 2025

Issue Notice of Ready for Environmental Analysis—December 2025

q. Final amendments to the application must be filed with the Commission no later than 30 days from the issuance date of the notice of ready for environmental analysis.

Dated: June 12, 2025.
Carlos D. Clay,
Deputy Secretary.

[FR Doc. 2025-11166 Filed 6-16-25; 8:45 am]

BILLING CODE 6717-01-P